DEPARTMENT OF LABOR

Employment and Training Administration

[TA-W-63,574]

Albany International Research Company, Mansfield, MA; Notice of Negative Determination Regarding Application for Reconsideration

By application postmarked September 30, 2008, a company official requested administrative reconsideration of the Department's negative determination regarding eligibility to apply for Trade Adjustment Assistance (TAA), applicable to workers and former workers of the subject firm. The denial notice was signed on August 18, 2008 and published in the Federal Register on September 3, 2008 (73 FR 51530).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative TAA determination issued by the Department for workers of Albany International Research Company, Mansfield, Massachusetts was based on the finding that imports of prototype fabrics did not contribute importantly to worker separations at the subject plant and there was no shift of production to a foreign country during the relevant period. The “contributed importantly” test is generally demonstrated through a survey of the workers' firm's declining domestic customers. In this instance, the subject firm did not sell prototype fabrics to outside domestic customers, thus a survey was not conducted. The subject firm did not import prototype fabrics into the United States during the relevant period.

In the request for reconsideration the petitioner states that employment at the subject facility will be negatively impacted by a shift in a portion of Research and Development work to England. According to the company official, the shift will be taking place on December 31, 2008.

When assessing eligibility for TAA, the Department exclusively considers import impact during the relevant time period (one year prior to the date of the petition). Events occurring on December 31, 2008 are outside of the relevant time period as established by the petition date of June 19, 2008, and thus cannot be considered in this investigation.

Should conditions change in the future, the company is encouraged to file a new petition on behalf of the worker group which will encompass an investigative period that will include these changing conditions.

Conclusion

After review of the application and investigative findings, I conclude that there has been no error or misinterpretation of the law or of the facts which would justify reconsideration of the Department of Labor's prior decision. Accordingly, the application is denied.

Signed in Washington, DC, this 22nd day of October 2008.
Elliott S. Kushner,
Certifying Officer, Division of Trade Adjustment Assistance.

[FR Doc. E8-26536 Filed 11-6-08; 8:45 am]

BILLING CODE 4510-FN-P